Title 3—

The President

Memorandum of December 8, 2004

Assignment of Functions Implementing the HELP Commission Act

Memorandum for the Secretary of State [and] the Administrator of the United States Agency for International Development

By the authority vested in me as President by the Constitution and laws of the United States, including section 301 of title 3, United States Code:

1. The functions of the President under subsection 637(k) of the Commerce, Justice and State, the Judiciary, and Related Agencies Appropriations Act, 2004 (Division B, Public Law 108-199)(22 U.S.C. 2394b(k))(the “Act”) are assigned to the Secretary of State (Secretary).

2. The Administrator of the United States Agency for International Development shall provide support to assist the Secretary in the performance of functions assigned by this memorandum, and the heads of executive departments and agencies with information concerning assistance programs shall furnish promptly to the Secretary, consistent with applicable law, such information as the Secretary may request to assist in fulfillment of these responsibilities for the preparation of the report to which subsection 637 (k) refers.

3. The Secretary shall coordinate the receipt by departments and agencies of requests from the HELP Commission under section 637(e) of the Act for information and their responses to such requests. Such departments and agencies shall provide relevant information and responses promptly. The Secretary shall ensure that such responses occur in a manner consistent with the President's constitutional authority to withhold information that could impair foreign relations, national security, the deliberate processes of the Executive, or the performance of the Executive's constitutional duties.

4. Heads of executive departments and agencies shall assist the Secretary in the implementation of this memorandum.

5. The Secretary is authorized and directed to publish this memorandum in the Federal Register.

B

THE WHITE HOUSE,

Washington, December 8, 2004.

[FR Doc. 04-28730

Filed 12-29-04; 8:45 am]

Billing code 4710-10-P